DEPARTMENT OF ENERGY

Southeastern Power Administration

Jim Woodruff Project

AGENCY: Southeastern Power Administration, DOE.

ACTION: Notice of extension of time for written comments.

SUMMARY: The period for submitting written comments on Southeastern's proposed rate adjustment is extended to June 26, 2009.

DATES: Written comments may be submitted until the close of business June 26, 2009.

ADDRESSES: Written comments should be submitted to: Kenneth E. Legg, Administrator, Southeastern Power Administration, Department of Energy, 1166 Athens Tech Road, Elberton, Georgia 30635-6711.

FOR FURTHER INFORMATION CONTACT: Leon Jourolmon, Assistant Administrator, Finance and Marketing Division, Southeastern Power Administration, Department of Energy, 1166 Athens Tech Road, Elberton, Georgia 30635-6711. (706) 213-3800.

SUPPLEMENTARY INFORMATION: On March 11, 2009, Southeastern published a Notice in the Federal Register (74 FR 10570) that proposed new rate schedules to replace the current wholesale power schedules for the Jim Woodruff Project for a 5-year period from September 20, 2009 to September 19, 2014. The Notice outlined a public comment process that included a public information and comment forum for the Jim Woodruff customers and interested parties, which was held in Tallahassee, FL, on April 23, 2009. The public information process also provided that additional written comments would be due to Southeastern on or before June 9, 2009. On May 19, 2009, the Jim Woodruff customers, through their representatives, requested an extension of the comment period from June 9, 2009 to close of business on June 26, 2009. The additional time is needed in order for the customers to review extensive materials and information provided and developed at and after the forum and to allow sufficient time for such necessary review and preparation of informed comments regarding the new proposed rates. Southeastern is granting the customers' request for an extension of time.

Dated: May 20, 2009.
Kenneth E. Legg,
Administrator.

[FR Doc. E9-12488 Filed 5-28-09; 8:45 am]

BILLING CODE 6450-01-P